DEPARTMENT OF VETERANS AFFAIRS

Enhanced-Use Lease of the Department of Veterans Affairs Real Property for the Continued Management, Maintenance, and Operation of a Mixed-Use Development, Including an Office Building, on a Parcel of Land Totaling Approximately 15 Acres in Columbia, South Carolina

AGENCY: Department of Veterans Affairs

ACTION: Amended Notice of Intent to Enter into an Enhanced-Use Lease Amendment

SUMMARY: The Secretary of VA intends to amend the scope and terms of an existing Enhanced Use Lease (EUL) that was entered into on November 19, 2007, for a parcel of approximately 28 acres of land, for the purpose of developing, financing, constructing, managing, maintaining, and operating a mixed-use development. Since that time, the needs of the local VA Medical Center have changed such that VA now requires taking back control of a 13 acre portion of the original parcel included in the EUL in order to renovate an existing historical building, construct additional facilities on the parcel, and obtain parking spaces. This notice provides details on the scope of the amended EUL. The EUL Lessee will continue to manage, maintain, and operate a mixed-use development on 15 acres, including a 137,000 square foot office building. The Lessee will also provide ground lease rent payments to support additional Veteran services.

FOR FURTHER INFORMATION CONTACT: Edward L. Bradley III, Office of Asset Enterprise Management (044), Department of Veterans Affairs, 810 Vermont Avenue NW., Washington, DC 20420, (202) 461-7778.

SUPPLEMENTARY INFORMATION: As required under Section 211(b)(2)(B) of Public Law 112-154, because the EUL was entered into prior to January 1, 2012, this amended EUL will adhere to the prior version of VA's EUL statute as in effect on August 5, 2011.

Signing Authority

The Secretary of Veterans Affairs, or designee, approved this document and authorized the undersigned to sign and submit the document to the Office of the Federal Register for publication electronically as an official document of the Department of Veterans Affairs. Robert A. McDonald, Secretary of Veterans Affairs, approved this document on May 2, 2016, for publication.

Approved: May 2, 2016.
Jeffrey M. Martin,
Office of Regulation Policy and Management, Office of the General Counsel.

[FR Doc. 2016-10858 Filed 5-9-16; 8:45 am]

BILLING CODE 8320-01-P